SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than February 22, 2011. Individuals can obtain copies of the collection instruments by calling the SSA Reports Clearance Officer at 410-965-8783 or by writing to the above email address.

1. RSI/DI Quality Review Case Analysis—Sampled Number Holder; Auxiliaries/Survivors; Parent; Stewardship Annual Earnings Test—0960-0189. SSA collects information on Forms SSA-2930, SSA-2931, and SSA-2932 to establish a national payment accuracy rate for all cases in payment status, and to serve as a source of information regarding problem areas in the Retirement and Survivors Insurance (RSI) and Disability Insurance (DI) programs. SSA also uses the information to measure the accuracy rate for newly adjudicated RSI/DI cases. SSA collects information on Form SSA-4659 to evaluate and determine the effectiveness of the annual earnings test, and uses the results in developing ongoing improvements in the process. SSA sends each beneficiary an appointment letter for the interview. About 25 percent of respondents will have face-to-face contact reviews and receive one of the following letters for an appointment: SSA-L8550-U3 (Appointment Letter—Sample Individual), SSA-L8551-U3 (Appointment Letter—Sample Family), or the SSA-L8552-U3 (Appointment Letter—Rep Payee). The other 75 percent of respondents will receive a notice for a telephone contact review: either the SSA-L8553-U3 (Beneficiary Telephone Contact), or the SSA-L8554-U3 (Rep Payee Telephone Contact) notice.

To help the beneficiary prepare for the interview, we include three forms with each notice:

(1) SSA-85 (Information Needed to Review Your Social Security Claim) that lists the information the beneficiary will need to gather for the interview;

(2) SSA-2935 (Authorization to the Social Security Administration to Obtain Personal Information) so SSA can obtain information to verify the beneficiary's correct payment amount, if necessary; and

(3) SSA-8552 (Interview Confirmation) to confirm or reschedule the interview if necessary.

The respondents are a statistically valid sample of all RSI/DI beneficiaries in current pay status or their representative payees.

Type of Request: Revision of an OMB-approved information collection.

Form number | Number of responses | Frequency of response | Average burden per response (minutes) | Total annual burden (hours)
SSA-2930 | 1,500 | 1 | 30 | 750
SSA-2931 | 750 | 1 | 30 | 375
SSA-2932 | 100 | 1 | 20 | 33
SSA-4659 | 325 | 1 | 10 | 54
SSA-L8550-U3 | 385 | 1 | 5 | 32
SSA-L8551-U3 | 95 | 1 | 5 | 8
SSA-L8552-U3 | 35 | 1 | 5 | 3
SSA-L8553-U3 | 4,490 | 1 | 5 | 374
SSA-L8554-U3 | 670 | 1 | 5 | 56
SSA-8552 | 2,350 | 1 | 5 | 196
SSA-85 | 3,850 | 1 | 5 | 321
SSA-2935 | 2,350 | 1 | 5 | 196
SSA-820/821 | 400 | 1 | 15 | 100
SSA-8510 | 800 | 1 | 5 | 67
iClaim Stewardship Questions | 324 | 1 | 10 | 54
Totals | 18,424 |  |  | 2,619

2. Request for Social Security Earnings Information—20 CFR 404.810 & 401.100—0960-0525. The Social Security Act permits wage earners, or their authorized representative, to request Social Security earnings information from SSA using Form SSA-7050. SSA uses the information to verify the requestor's right to access the information and to produce the earnings statement. The respondents are wage earners and their authorized representatives.

Type of Request: Revision of an OMB-approved information collection.

Number of Respondents: 60,400.

Frequency of Response: 1.

Average Burden per Response: 11 minutes.

Estimated Annual Burden: 11,073.

3. Employer Reports of Special Wage Payments—20 CFR 404.428-404.429—0960-0565. SSA collects information on the SSA-131 to prevent earnings-related overpayments and to avoid erroneous withholding of benefits. SSA field offices and program service centers also use Form SSA-131 for awards and post-entitlement events requiring special wage payment verification from employers. While we need this information to ensure the correct payment of benefits, we do not require employers to respond. The respondents are large and small businesses that make special wage payments to retirees.

Type of Request: Extension of an OMB-approved information collection.

Modality of completion | Number of respondents | Frequency of response | Average burden per response (minutes) | Total annual burden (hours)
Paper Version: SSA-131 (without #6) | 105,000 | 1 | 20 | 35,000
Paper Version: SSA-131 #6 only | 1,050 | 1 | 2 | 35
Electronic version: BSO Special Wage Payments | 26 | 1 | 5 | 2
Totals | 106,076 |  |  | 35,037

4. Methods for Conducting Personal Conferences When Waiver of Recovery of a Title II or Title XVI Overpayment Cannot Be Approved—20 CFR 404.506(e)(3), 404.506(f)(8), 416.557(c)(3), and 416.557(d)(8)—0960-0769. SSA conducts personal conferences when we cannot approve a waiver of recovery of a title II or title XVI overpayment. We are required to give overpaid Social Security beneficiaries and Supplemental Security Income (SSI) recipients the right to request a waiver of recovery and automatically schedule a personal conference if we cannot approve their request for waiver of overpayment. We conduct these conferences face-to-face, by telephone, or by video teleconference. Social Security beneficiaries and recipients or their representatives may provide documents to demonstrate they are without fault in causing the overpayment and do not have the ability to repay the debt. They may submit these documents by printed form (SSA-632 (OMB # 0960-0037), Request for Waiver of Overpayment Recovery; SSA-795 (OMB # 0960-0045), Statement of Claimant or Other Person, or personal statement submitted by mail, telephone, personal contact, or other suitable method, such as fax or email. This information collection satisfies the requirements for request for waiver of recovery of an overpayment and allows individuals to pursue further levels of administrative appeal via personal conference. Respondents are Social Security beneficiaries and SSI recipients or their representatives seeking reconsideration of an SSA waiver decision.

Type of Request: Extension of an OMB-approved information collection.

Title/section & collection description | Number of responses | Frequency of response | Average burden per response (minutes) | Total annual burden (hours)
Personal conference 404.506(e)(3) submittal of additional documents for consideration at personal conferences | 150,000 | 1 | 30 | 75,000
Personal conference 404.506(f)(8) submittal of additional mitigating financial information and verifications for consideration at personal conferences | 75,000 | 1 | 30 | 37,500
Personal conference 416.557(c)(3) submittal of additional documents for consideration at personal conferences | 100,000 | 1 | 30 | 50,000
Personal conference 416.557(d)(8) submittal of additional mitigating financial information and verifications for consideration at personal conferences | 50,000 | 1 | 30 | 25,000
Total | 375,000 |  |  | 187,500

II. SSA has submitted the information collections listed below to OMB for clearance. Your comments on the information collections would be most useful if OMB and SSA receive them within 30 days from the date of this publication. To be sure we consider your comments, we must receive them no later than January 21, 2011. You can obtain a copy of the OMB clearance packages by calling the SSA Reports Clearance Officer at 410-965-8783 or by writing to the above email address.

1. State Mental Institution Policy Review Booklet—20 CFR 404.2035, 404.2065, 416.635, & 416.665—0960-0110. SSA uses the information collected on Form SSA-9584-BK to determine whether: 1) The policies and practices of a State mental institution acting as a representative payee for SSA beneficiaries conform to SSA's regulations in the use of benefits; and 2) the institution is performing other duties and responsibilities required of a representative payee. SSA also uses the information as the basis for conducting onsite reviews of the institution and preparing subsequent reports of findings. The respondents are State mental institutions serving as representative payees for Social Security beneficiaries and SSI recipients.

Type of Request: Revision of an OMB-approved information collection.

Number of Respondents: 88.

Frequency of Response: 1.

Average Burden per Response: 60 minutes.

Estimated Annual Burden: 88 hours.

2. Employee Identification Statement—20 CFR 404.702—0960-0473. When two or more individuals report earnings under the same Social Security number (SSN), SSA collects information on the SSA-4156 so we can credit earnings to the correct individual and the correct SSN. We send this form to the employer to identify the employees involved, to resolve the discrepancy, and to post earnings to the correct SSN. The respondents are employers reporting erroneous wage information for an employee.

Type of Request: Revision of an OMB-approved information collection.

Number of Respondents: 4,750.

Frequency of Response: 1.

Average Burden per Response: 10 minutes.

Estimated Annual Burden: 792 hours.

3. Modified Benefit Formula Questionnaire—Employer—20 CFR 401 & 402—0960-0477. SSA collects information on Form SSA-58 to verify the claimant's allegations on Form SSA-150 (OMB # 0906-0395, Modified Benefits Formula Questionnaire). SSA uses the SSA-58 to determine if the modified benefit formula is applicable and when to apply it to a person's benefit. SSA sends Form SSA-58 to an employer for pension-related information, if the claimant is unable to provide it. The respondents are employers of people who are eligible after 1985 for both Social Security benefits and a pension based on work not covered by SSA.

Type of Request: Revision of an OMB-approved information collection.

Number of Respondents: 30,000.

Frequency of Response: 1.

Average Burden per Response: 20 minutes.

Estimated Average Burden: 10,000 hours.

4. Work Activity Report (Self-Employed Person)—20 CFR 404.1520(b), 20 CFR 1571-.1576, 20 CFR 404.1584-.1593, and 20 CFR 416.971-.976—0960-0598. SSA uses the information on Form SSA-820-U4 to determine initial or continuing eligibility for SSI payments or Social Security disability benefits. Under titles II and XVI of the Social Security Act, applicants for disability benefits and SSI payments must prove they cannot perform any kind of substantial gainful activity (SGA) generally available in the national economy for which we expect them to qualify based on age, education, and work experience. SSA needs information about this work to determine whether the applicant was (or is) engaging in SGA. Working, after a claimant becomes entitled, can cause SSA to discontinue disability benefits or SSI payments. Using information from Form SSA-820-U4, SSA can determine if we should stop the respondent's payments. The respondents are applicants and claimants for SSI or Social Security disability benefits.

Type of Request: Revision of an OMB-approved information collection.

Number of Respondents: 100,000.

Frequency of Response: 1.

Average Burden per Response: 30 minutes.

Estimated Annual Burden: 50,000 hours.

Dated: December 16, 2010.
Faye Lipsky,
Reports Clearance Officer, Center for Reports Clearance, Social Security Administration.

[FR Doc. 2010-32107 Filed 12-21-10; 8:45 am]

BILLING CODE 4191-02-P